DEPARTMENT OF COMMERCE

Submission for OMB Review; Comment Request

The Department of Commerce will submit to the Office of Management and Budget (OMB) for clearance the following proposal for collection of information under the provisions of the Paperwork Reduction Act (44 U.S.C. Chapter 35).

Agency: Economic Development Administration (EDA).

Title: Revolving Loan Fund Reporting and Compliance Requirements.

OMB Control Number: 0610-0095.

Form Number(s): ED-209, ED-209I.

Type of Request: Regular submission (revision of a currently approved information collection).

Number of Respondents: 617.

Average Hours per Response: 2 hours for ED-209; and 45 minutes for ED-209I.

Burden Hours: 2,699.

Needs and Uses: The collected information will be used by EDA personnel to monitor the compliance of Revolving Loan Fund (RLF) grantees with legal and programmatic requirements, and to ensure that EDA exercises adequate fiduciary responsibility over its portfolio. The revision involves a change in reporting including 100% electronic collection, elimination of two paper forms and combining into one electronic form, and other refinements to ease the burden of reporting.

Affected Public: Recipients of EDA RLF grants.

Frequency: Semi-annually.

Respondent's Obligation: Mandatory.

OMB Desk Officer: Nicholas Fraser, (202) 395-5887.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to Nicholas Fraser, OMB Desk Officer, FAX number (202) 395-5167, or via the Internet at Nicholas_A._Fraser@omb.eop.gov.

Dated: August 3, 2011.
Gwellnar Banks,
Management Analyst, Office of the Chief Information Officer.

[FR Doc. 2011-20095 Filed 8-8-11; 8:45 am]

BILLING CODE 3510-34-P